DEPARTMENT OF COMMERCE

International Trade Administration

[A-570-849]

Certain Cut-to-Length Carbon Steel Plate From the People's Republic of China: Final Results of Antidumping Administrative Review; 2010-2011

AGENCY: Import Administration, International Trade Administration, Department of Commerce.

SUMMARY: On August 9, 2012, the Department of Commerce (the “Department”) published the preliminary results of the administrative review (“AR”) of certain cut-to-length carbon steel plate (“CTL plate”) from the People's Republic of China (“PRC”) covering the period of review (“POR”) November 1, 2010 through October 31, 2011.¹ After analyzing the comments submitted by Nucor Corporation (“Petitioner”) with respect to the AR, the Department continues to find that Baosteel and Hunan Valin did not have shipments during the POR and that shipments by Anshan and Liaoning should be liquidated at the PRC-wide rate of 128.59 percent.

¹ See Certain Cut-to-Length Carbon Steel Plate From the People's Republic of China: Preliminary Results of Antidumping Administrative Review and Preliminary Determination of No Shipments, 77 FR 47593 (August 9, 2012) (“Preliminary Results”). The companies included in the review are as follows: Bao/Baoshan International Trade Corp./Bao Steel Metals Trading Corp. (“Baosteel”), Hunan Valin Xiangtan Iron & Steel Co., Ltd. (“Hunan Valin”), Anshan Iron & Steel Group (“Anshan”), and China Metallurgical Import and Export Liaoning Company (“Liaoning”).

DATES: Effective Date: December 11, 2012.

FOR FURTHER INFORMATION CONTACT: Patrick O'Connor, AD/CVD Operations, Office 4, Import Administration, International Trade Administration, U.S. Department of Commerce, 14th Street and Constitution Avenue NW., Washington, DC 20230; telephone: (202) 482-0989.

SUPPLEMENTARY INFORMATION:

Background

On August 9, 2012, the Department published its Preliminary Results of the AR of the antidumping order on CTL plate from the PRC covering the period November 1, 2010, through October 31, 2011. On September 10, 2012, Nucor Corporation (“Petitioners”) commented on the Department's Preliminary Results. No other parties commented on the Preliminary Results.

Analysis of the Comments Received

All issues raised in Petitioner's case brief in this AR are addressed in the memorandum from Gary Taverman, Senior Advisor for Antidumping and Countervailing Duty Operations, to Ronald K. Lorentzen, Acting Assistant Secretary for Import Administration, “Issues and Decision Memorandum for the Final Results of the Antidumping Administrative Review and Final Determination of No Shipments—Certain Cut-to-Length Carbon Steel Plate from the People's Republic of China” (“I&D Memorandum”), which is dated concurrently with this notice and which is hereby adopted by this notice. A list of the issues addressed in the I&D Memorandum is appended to this notice. The I&D Memorandum is a public document and is on file electronically via Import Administration's Antidumping and Countervailing Duty Centralized Electronic Services System (“IA ACCESS). Access to IA ACCESS is available to registered users at http://iaaccess.trade.gov and in the Central Records Unit of the main Commerce Building, Room 7046. In addition, a complete version of the I&D Memorandum is accessible on the Department's Web site at http://www.trade.gov/ia/. The signed I&D Memorandum and electronic versions of the I&D Memorandum are identical in content.

Changes Since the Preliminary Results

We have made no changes from the Preliminary Results.

Scope of the Order

The product covered by the order is certain CTL plate from the People's Republic of China, subject to certain exceptions. Imports of subject merchandise are classified under the Harmonized Tariff Schedule of the United States (“HTSUS”) under subheadings: 7208.40.3030, 7208.40.3060, 7208.51.0030, 7208.51.0045, 7208.51.0060, 7208.52.0000, 7208.53.0000, 7208.90.0000, 7210.70.3000, 7212.40.5000, 7212.50.0000. Although the HTSUS subheadings are provided for convenience and customs purposes, the written description of the scope of the order is dispositive.²

² For a full description of the scope of the order, see Suspension Agreement on Certain Cut-to-Length Carbon Steel Plate From the People's Republic of China; Termination of Suspension Agreement and Notice of Antidumping Duty Order, 68 FR 60081 (October 21, 2003).

Final Determination of No Shipments

As noted in the Preliminary Results, the Department determined that Baosteel and Hunan Valin did not have any reviewable transactions during the POR.³ While Petitioner commented in its case brief on the possibility that Baosteel or Hunan Valin could have had sales of subject merchandise during the POR, as stated in the I&D Memorandum at Comment 3, we continue to find that neither party had shipments during the POR. Therefore, we will issue instructions to U.S. Customs and Border Protection (“CBP”) for both companies in the manner stated below.

³ See Preliminary Results, 77 FR at 47594.

Assessment

Upon issuance of the final results, the Department will determine, and CBP shall assess, antidumping duties on all appropriate entries covered by this review. The Department intends to issue assessment instructions to CBP 15 days after the publication date of the final results of this review. The Department intends to instruct CBP to liquidate entries of subject merchandise from Anshan and Liaoning at the PRC-wide rate of 128.59 percent. Additionally, pursuant to a recently announced refinement to its assessment practice in nonmarket economy cases, because the Department continues to determine that Baosteel and Hunan Valin had no shipments of the subject merchandise, any suspended entries that entered under these exporters' case numbers (i.e., at that exporter's rate) will be liquidated at the PRC-wide rate. For a full discussion of this practice, see Non-Market Economy Antidumping Proceedings: Assessment of Antidumping Duties, 76 FR 65694 (October 24, 2011).

Cash Deposit Requirements

The following cash deposit requirements will be effective upon publication of the final results of this AR for all shipments of the subject merchandise entered, or withdrawn from warehouse, for consumption on or after the publication date, as provided for by section 751(a)(2)(C) of the Tariff Act of 1930, as amended (“the Act”): (1) For Baosteel and Hunan Valin, which claimed no shipments, the cash deposit rate will remain unchanged from the rate assigned to these companies in the most recently completed review of the companies; (2) for previously investigated or reviewed PRC and non-PRC exporters who are not under review in this segment of the proceeding but who have separate rates, the cash deposit rate will continue to be the exporter-specific rate published for the most recent period; (3) for all PRC exporters of subject merchandise that have not been found to be entitled to a separate rate, including Anshan and Liaoning, the cash deposit rate will be the PRC-wide rate of 128.59 percent; and (4) for all non-PRC exporters of subject merchandise which have not received their own rate, the cash deposit rate will be the rate applicable to the PRC exporter(s) that supplied that non-PRC exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

This notice of the final results of the administrative review is issued and published in accordance with sections 751(a)(1) and 777(i) of the Act and 19 CFR 351.213(d)(4).

Dated: December 3, 2012.
Ronald K. Lorentzen,
Acting Assistant Secretary for Import Administration.

Appendix

Issue 1: Whether Anshan and Lioaning Should be Treated as Part of the PRC-wide Entity

Issue 2: Whether Hunan Valin Should be Treated as Part of the PRC-wide Entity

Issue 3: Whether the Department Should Continue to Review Baosteel's and Hunan Valin's POR Shipments

[FR Doc. 2012-29887 Filed 12-10-12; 8:45 am]

BILLING CODE 3510-DS-P